ENVIRONMENTAL PROTECTION AGENCY

[ER-FRL-6625-7]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated May 18, 2001 (66 FR 27647).

Draft EISs ERP No. D-AFS-J65354-MT Rating EC2 Game Range Project, Ecosystem Health and Productivity Improvements, Fuel Loading Reduction and Game Winter Range Condition Improvements and Maintenance, Lolo National Forest, Plain/Thompson Falls Ranger District, Thompson River to Squaw Creek, Thompson Falls, MT.

Summary: EPA expressed environmental concerns regarding the need for improved discussion of how environmental commitments are provided for during implementation under the stewardship contracting program. EPA also believes additional information should be provided to: support stated minimal watershed impacts; the identification of Alternative 2 as the environmentally preferred alternative; and describe fuel loads and wildfire risks within the Ashley Creek watershed and Thompson Fall's public water supply watershed.

ERP No. D-FHW-G40167-LA Rating LO

Louisiana 1 Improvements Project, Golden Meadow to Port Fourchon Highway Construction, Funding, US Army COE Section 10 and 404, NPDES and Coast Guard Bridge Permits Issuance, Lafoufche Parish, LA.

Summary: EPA has a lack of objections to the selection of the preferred alternative. However to strengthen the NEPA document, EPA suggests that additional information on secondary development and potential wetland losses be discussed in the FEIS.

ERP No. DS-AFS-K65307-CA

Rating EC2 Herger-Feinstein Quincy Library Group Forest Act Pilot Project, Proposal to Analyze Options for Maintaining Defensible Fuel Profile Zones (DFPZs), Lassen, Plumas and Tahoe National Forests, Shasta, Lassen, Tehama, Yuba, Plumas and Battle Counties, CA.

Summary: EPA expressed environmental concerns regarding the limited scope of the analysis, and continuing concerns regarding water quality, habitat fragmentation and noxious weed proliferation associated with the construction of defensible fuel profile zones (DFPZs). EPA suggested a broader scope for the analysis and document formatting changes.

ERP No. D1-AFS-L65120-OR

Rating EC2 Lemolo Watershed Projects, Objectives for Management of Areas 5 and 10 and Matrix Lands, Umpqua National Forest, Diamond Lake Ranger District, Douglas County, OR.

Summary: EPA expressed environmental concerns related to listed species, silvicultural practices, logging roads and access issues. and interagency coordination. EPA requested that the Purpose and Need statement be consistent with the North West Forest Plan.

Final EISs

ERP No. F-FAA-E51047-NC

Piedmont Triad International Airport, Construction and Operation, Runway 5L/23R and New Overnight Express Air Cargo Sorting and Distribution Facility and Associated Developments, Funding, NPDES and US Army COE Section 404 Permit Issuance, City of Greensboro, Guilford County, NC.

Summary: EPA continues to express environmental concern regarding noise mitigation measures. EPA recommended that the FAA extend its proposed residential land acquisitions to include those homes which would be located in the DNL 65 dBA contour and would experience a DNL 1.5 dBA or greater increase.

ERP No. F-FHW-G40146-NM

New Mexico Highway 126 (NM-126)/Cuba-La Cueva Road (also Known as Forest Highway 12 (FH-12)) Improvement, southeast of Fenton Lake to east of Cuba at Senorito Divide, Sandoval and Rio Arriba Counties, NM.

Summary: EPA has no further comments to offer on the Final EIS or the selected alternative.

ERP No. F-FHW-H40397-MO

Interstate 70 Corridor Improvements, Kansas City to St. Louis, Funding, US Army COE Section 404 and 10 and US Coast Guard Section 9 Permits Issuance, several counties, MO.

Summary: No formal comment letter was sent to the preparing agency.

ERP No. FS-FTA-L40210-WA

Central Link Light Transit Project (Sound Transit) Construction and Operation, Additional Information concerning Consideration of the Tukwila Freeway Route Alternative, Funding and US Army COE Section 10 and 404 Permits Issuance, Cities of Seattle, Sea Tac and Tukwila, King County, WA.

Summary: EPA had a lack of objections to the FEIS.

Dated: January 15, 2002.
Joseph C. Montgomery,
Director, NEPA Compliance Division, Office of Federal Activities.

[FR Doc. 02-1343 Filed 1-17-02; 8:45 am]

BILLING CODE 6560-50-P